ENVIRONMENTAL PROTECTION AGENCY

[EPA-HQ-OPP-2024-0092; FRL-12543-01-OCSPP]

Notice of Receipt of Requests to Voluntarily Cancel Certain Pesticide Registrations (January 2025)

AGENCY: Environmental Protection Agency (EPA).

ACTION: Notice.

SUMMARY: In accordance with the Federal Insecticide, Fungicide, and Rodenticide Act (FIFRA), this document announces the Agency's receipt of and solicits comment on requests by registrants to voluntarily cancel their pesticide registration of certain products. EPA provides a periodic notice of receipt addressing requests received by EPA since the last notice of receipt was issued and uses the month and year in the title to help distinguish one document from the other. For this notice, EPA has compiled the requests received between September 30, 2024, and December 31, 2024. EPA intends to grant these requests at the close of the comment period for this announcement unless the Agency receives substantive comments during the comment period that would merit its further review of the requests or the request is withdrawn by the registrant. If these requests are granted, EPA will issue an order in the Federal Register cancelling the listed product registrations, after which any sale, distribution, or use of products listed in this document will only be permitted after the registrations have been cancelled only if such sale, distribution, or use is consistent with the terms as described in the final order.

DATES: Comments must be received on or before November 26, 2025.

ADDRESSES: Submit your comments, identified by docket identification (ID) number EPA-HQ-OPP-2024-0092, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Christopher Green, Registration Division (7505T), Office of Pesticide Programs, Environmental Protection Agency, 1200 Pennsylvania Ave. NW, Washington, DC 20460-0001; telephone number: (202) 566-2707; email address: green.christopher@epa.gov.

SUPPLEMENTARY INFORMATION:

I. Executive Summary

A. Does this action apply to me?

This action is directed to the public and may be of interest to a wide range of stakeholders including environmental, human health, and agricultural advocates; the chemical industry; pesticide users; and members of the public interested in the sale, distribution, or use of pesticides.

B. What action is the Agency taking?

This document announces receipt by EPA of requests from registrants to voluntarily cancel their pesticide registration of the products listed in Unit II. that are currently registered under FIFRA sections 3 or 24(c) (7 U.S.C. 136a or 136v(c)). EPA provides a periodic notice of receipt addressing requests received by EPA since the last notice of receipt was issued and uses the month and year in the title to help distinguish one document from the other. For this notice, EPA has compiled the requests received between September 30, 2024, and December 31, 2024. Unless the Agency determines that there are substantive comments that warrant further review of the requests or the registrants withdraw their requests, EPA intends to issue an order in the Federal Register canceling the affected registrations.

C. What is EPA's authority for taking this action?

FIFRA section 6(f)(1) (7 U.S.C. 136d(f)(1)) provides that a registrant of a pesticide product may at any time request that any of its pesticide registrations be canceled. Before acting on a request for voluntary cancellation, EPA must provide a 30-day public comment period on the request. FIFRA further provides that, before acting on a request for voluntary cancellation or termination of any minor agricultural use, EPA must provide a 180-day comment period unless:

1. The registrants request a waiver of the comment period, or

2. The EPA Administrator determines that continued use of the pesticide would pose an unreasonable adverse effect on the environment.

The registrants in Table 3 of Unit II. have not requested that EPA waive the 180-day comment period. Accordingly, this document provides a 180-day comment period on these requests.

D. What should I consider as I prepare my comments for EPA?

1. Submitting CBI. Do not submit this information to EPA through regulations.gov or email. Clearly mark the part or all of the information that you claim to be CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets.

E. How can a registrant withdraw their request for voluntary cancellation?

Registrants who choose to withdraw their request for voluntary cancellation should submit a withdrawal request in writing to the person listed under FOR FURTHER INFORMATION CONTACT. If the products have been subject to a previous cancellation action, the effective date of cancellation and all other provisions of any earlier cancellation action are controlling.

II. Requests to Voluntarily Cancel Certain Registrations

The registrations with pending voluntary requests for cancellation are listed in sequence by registration number (or company number and 24(c) number) in Table 1 of this unit.

Table 1—Registrations With Pending Voluntary Requests for Cancellation
Registration No. | Company No. | Product name | Active ingredients
10163-189 | 10163 | Botran 75-W Fungicide | Dicloran (031301/99-30-9)—(75%).
10163-226 | 10163 | Botran 5F Fungicide | Dicloran (031301/99-30-9)—(46.7%).
10163-329 | 10163 | Botran P 5F Fungicide | Dicloran (031301/99-30-9)—(46.7%).

Table 2 of this unit includes the names and addresses of record for all registrants of the products in Table 1 of this unit, in sequence by EPA company number. This number corresponds to the first part of the EPA registration numbers of the products listed in Table 1 of this unit.

Table 2—Registrants Requesting Voluntary Cancellation
EPA company No. | Company name and address
10163 | Gowan company, LLC, 370 S Main St., Yuma, AZ 85366.

III. Provisions for Disposition of Existing Stocks

Existing stocks are those stocks of registered pesticide products that are currently in the United States and that were packaged, labeled, and released for shipment prior to the effective date of the cancellation, which will be the date of publication of the cancellation order in the Federal Register. In any order issued in response to these requests, EPA anticipates including the following provisions for the treatment of any existing stocks of the products listed in Unit II.:

The registrant of the products in Table 1 of Unit II. has requested to sell and distribute existing stocks for a period of 18-months after the effective date of the cancellation order. Thereafter, registrants will be prohibited from selling or distributing the products identified in Table 1 of Unit II., except for export consistent with FIFRA section 17 (7 U.S.C. 136o) or for proper disposal.

Persons other than the registrant will generally be allowed to sell, distribute, or use existing stocks of the canceled products until such stocks are exhausted, provided that such sale, distribution, or use is consistent with the terms of the previously approved labeling on, or that accompanied, the canceled products.

Authority: 7 U.S.C. 136 et seq.

Dated: May 22, 2025.
Charles Smith,
Director, Registration Division, Office of Pesticide Programs.

[FR Doc. 2025-09818 Filed 5-29-25; 8:45 am]

BILLING CODE 6560-50-P